DEPARTMENT OF TRANSPORTATION

Federal Aviation Administration

14 CFR Part 93

[Docket No. FAA-2001-11128]

RIN 2120-AG34

Noise Limitations for Aircraft Operations in the Vicinity of Grand Canyon National Park

AGENCY: Federal Aviation Administration (FAA), DOT.

ACTION: Notice of availability of working draft.

SUMMARY: This document notifies the public that a copy of a working draft of a Supplemental Notice of Proposed Rulemaking (SNPRM) Noise Limitations for Aircraft operations in the Vicinity of Grand Canyon National Park was released to an industry representative contrary to Department of Transportation (DOT) policy. This notice provides information to allow other persons the same access to this information to ensure fairies in the rulemaking process.

ADDRESSES: You may obtain a copy of the working draft of the SNPRM from the DOT public docket through the Internet at http://dms.dot.gov/, docket number FAA-2001-11128. If you do not have access to the Internet, you may obtain a copy of the working draft by United States mail from the Docket Management System, U.S. Department of Transportation, Room PL401, 400 Seventh Street, SW., Washington, DC 20590-0001. You must identify Docket Number FAA-2001-11128 and request a copy of the working draft of the supplemental notice of proposed rulemaking entitled “Noise Limitations for Aircraft Operations in the Vicinity of Grand Canyon National Park”.

You may also review the public docket in person in the Docket Office between 9 a.m. and 5 p.m., Monday through Friday, except Federal holidays. The Docket Office is on the plaza level.

FOR FURTHER INFORMATION CONTACT: Mr. Thomas L. Connor, Manager, Technology Division, AEE-100, Office of Environment and Energy, Federal Aviation Administration, 800 Independence Avenue, SW., Washington, DC, 20591; Telephone: (202) 267-8933; Email: thomas.1.connor@faa.gov.

SUPPLEMENTARY INFORMATION:

Background

The FAA published a notice of proposed rulemaking (NPRM) on December 31, 1996 entitled “Nose Limitations for Aircraft Operations in the Vicinity of Grand Canyon National Park” (Noise Limitations NPRM, 61 FR 69334; Notice 96-15). This NPRM proposed to establish noise efficiency limitations for certain aircraft operations in the vicinity of Grand Canyon National Park (GCNP). Given the length of time since the issuance of the NPRM, the FAA and the National Park Service (NPS) determined that an SNPRM should be issued to provide the public an opportunity to comment again in light of developments since 1996. The standards for quiet technology proposed in this SNPRM would assist the NPS achieve its statutory mandate to provide for the substantial restoration of natural quiet and experience in the GCNP. The SNPRM would also respond to the comments that the FAA received pertaining to the Noise Limitations NPRM.

A copy of a working draft of the SNPRM (“working draft”) was released to an industry representative contrary to Department of Transportation policy. We regret this action. To ensure that the rulemaking process is open and fair to all, we are placing a copy of the working draft in the public docket. the ADDRESSES section above provides information about where you may obtain a copy of the working draft.

The FAA, DOT, NPS and Office of Management and Budget (OMB) management have not completed review of the working draft. Therefore, it may not accurately represent the agency's final proposal, if one is issued. Because the working draft is not yet a formal proposal, and may or may not be published, it is premature for the FAA to request comments on this document. We have filed the working draft in the public docket solely to ensure that all interested persons have access to information that was released by the FAA and to ensure that the fairness and integrity of the rulemaking process is not compromised.

Issued in Washington, DC, December 7, 2001.
Paul Dykeman,
Acting Director, Office of Environment and Energy.

[FR Doc. 01-30836 Filed 12-13-01; 8:45 am]

BILLING CODE 4910-13-M